DEPARTMENT OF TRANSPORTATION

Federal Railroad Administration

[Docket No. FRA-2000-7257; Notice No. 28]

Railroad Safety Advisory Committee (“RSAC”); Working Group Activity Update

AGENCY: Federal Railroad Administration (FRA), Department of Transportation (DOT).

ACTION: Announcement of Railroad Safety Advisory Committee (RSAC) Working Group Activities.

SUMMARY: FRA is updating its announcement of RSAC's working group activities to reflect their current status.

FOR FURTHER INFORMATION CONTACT: Trish Butera or Lydia Leeds, RSAC Coordinators, FRA, 1120 Vermont Avenue, NW., Mailstop 25, Washington, DC 20590, (202) 493-6213 or Grady Cothen, Deputy Associate Administrator for Safety Standards and Program Development, FRA, 1120 Vermont Avenue, NW., Mailstop 25, Washington, DC 20590, (202) 493-6302.

SUPPLEMENTARY INFORMATION: This notice serves to update FRA's last announcement of working group activities and status reports on May 17, 2002, (67 FR 35185). The nineteenth full Committee meeting was held May 29, 2002, at the Wyndham Washington, DC Hotel in Washington, DC. The twentieth meeting is scheduled for September 19, 2002.

Since its first meeting in April of 1996, the RSAC has accepted seventeen tasks. Status for each of the tasks is provided below:

Task 96-1—(Completed) Revising the Freight Power Brake Regulations. This Task was formally withdrawn from the RSAC on June 24, 1997. FRA published an NPRM on September 9, 1998, reflective of what FRA had learned through the collaborative process. Two public hearings were conducted and a technical conference was held. The date for submission of written comments was extended to March 1, 1999. The final rule was published on January 17, 2001 (66 FR 4104). An amendment extending the effective date of the final rule until May 31, 2001 was published on February 12, 2001, (66 FR 9905). Amendments to Subpart D of the final rule were published August 1, 2001 (66 FR 36983). Amendments responding to the remaining issues raised in petitions for reconsideration were published in the Federal Register on April 10, 2002 (67 FR 17556). Contact: Thomas Hermann (202) 493-6036.

Task 96-2—(Completed) Reviewing and recommending revisions to the Track Safety Standards (49 CFR part 213). This Task was accepted April 2, 1996, and a Working Group was established. Consensus was reached on recommended revisions and an NPRM incorporating these recommendations was published in the Federal Register on July 3, 1997, (62 FR 36138). The final rule was published in the Federal Register on June 22, 1998 (63 FR 33991). The effective date of the rule was September 21, 1998. A task force was established to address Gage Restraint Measurement System (GRMS) technology applicability to the Track Safety Standards. A GRMS amendment to the Track Safety Standards was approved by the full RSAC in a mail ballot during August 2000. The GRMS final rule amendment was published January 10, 2001 (66 FR 1894). On January 31, 2001, FRA published a notice extending the effective date of the GRMS amendment to April 10, 2001 (66 FR 8372). On February 8, 2001, FRA published a notice delaying the effective date until June 9, 2001 in accordance with the Regulatory Review Plan (66 FR 9676). Contact: Al MacDowell (202) 493-6236.

Task 96-3—(Completed) Reviewing and recommending revisions to the Radio Standards and Procedures (49 CFR part 220). This Task was accepted on April 2, 1996, and a Working Group was established. Consensus was reached on recommended revisions and an NPRM incorporating these recommendations was published in the Federal Register on June 26, 1997 ( 62 FR 34544). The final rule was published on September 4, 1998 (63 FR 47182), and was effective on January 2, 1999. Contact: Gene Cox (202) 493-6319.

Task 96-4—Reviewing the appropriateness of the agency's current policy regarding the applicability of existing and proposed regulations to tourist, excursion, scenic, and historic railroads. This Task was accepted on April 2, 1996, and a Working Group was established. The Working Group monitored the steam locomotive regulations task. Planned future activities involve the review of other regulations for possible adaptation to the safety needs of tourist and historic railroads. Contact: Grady Cothen (202) 493-6302.

Task 96-5—(Completed) Reviewing and recommending revisions to Steam Locomotive Inspection Standards (49 CFR part 230). This Task was assigned to the Tourist and Historic Working Group on July 24, 1996. Consensus was reached and an NPRM was published on September 25, 1998 (63 FR 51404). A public hearing was held on February 4, 1999, and recommendations were developed in response to comments received. The final rule was published on November 17, 1999 (64 FR 62828). The final rule became effective January 18, 2000. Contact: George Scerbo (202) 493-6349.

Task 96-6—(Completed) Reviewing and recommending revisions to miscellaneous aspects of the regulations addressing Locomotive Engineer Certification (49 CFR part 240). This Task was accepted on October 31, 1996, and a Working Group was established. Consensus was reached and an NPRM was published on September 22, 1998. The Working Group met to resolve issues presented in public comments. The RSAC recommended issuance of a final rule with the Working Group modifications. The final rule was published November 8, 1999 (64 FR 60966). Contact: John Conklin (202) 493-6318.

Task 96-7—Developing Roadway Maintenance Machine (On-Track Equipment) Safety Standards. This Task was assigned to the existing Track Standards Working Group on October 31, 1996, and a Task Force was established. The Task Force finalized a proposed rule which was approved by the full RSAC in a mail ballot in August 2000. The NPRM was published January 10, 2001 (66 FR 1930). The Task Force met to review comments on February 27-March 1, 2002, and agreed to the disposition of the comments for the final rule. A Ballot was issued to the Working Group and all responders concurred. The RSAC approved the recommendations at the full RSAC meeting on May 29, 2002. The next step is to complete and publish the final rule. Contact: Al MacDowell (202) 493-6236.

Task 96-8—(Completed) This Planning Task evaluated the need for action responsive to recommendations contained in a report to Congress entitled, Locomotive Crashworthiness & Working Conditions. This Planning Task was accepted on October 31, 1996. A Planning Group was formed and reviewed the report, grouping issues into categories, and prepared drafts of the task statements for Tasks 97-1 and 97-2.

Task 97-1—Developing crashworthiness specifications to promote the integrity of the locomotive cab in accidents resulting from collisions. This Task was accepted on June 24, 1997. A Task Force on engineering issues was established by the Working Group on Locomotive Crashworthiness to review collision history and design options and additional research was commissioned. The Working Group reviewed results of the research and is drafting performance-based standards for freight and passenger locomotives to present to the RSAC for consideration. An accident review task force has evaluated the potential effectiveness of suggested improvements. An NPRM has been prepared and circulated, and the Working Group met to review and refine drafts on October 9-10, 2001, and January 17-18, 2002. Tentative consensus has been reached on the central issues, and the draft NPRM is being revised for Working Group review. The full RSAC will review after approval of the Working Group. Contact: Sean Mehrvazi (202) 493-6237.

Task 97-2—Evaluating the extent to which environmental, sanitary, and other working conditions in locomotive cabs affect the crew's health and the safe operation of locomotives, proposing standards where appropriate. This Task was accepted June 24, 1997.

(Sanitation). (Completed) A draft sanitation NPRM was circulated to the Working Group on Cab Working Conditions with ballot requested by November 3, 2000. The NPRM on sanitation was discussed during the full RSAC meeting on September 14, 2000 and published January 2, 2001 (66 FR 136). A public hearing was held April 2, 2001. A meeting was held on August 21, 2001, to discuss comments in response to the NPRM on sanitation. Agreement was reached on resolution of the comments to the NPRM. The Working Group gave concurrence to send the recommendations to the full RSAC for mail ballot vote. The recommendations were approved by the full Committee in December 2001. The final rule was published on April 4, 2002, with an effective date of July 3, 2002 (67 FR 16032). One petition for reconsideration was filed and is under review by FRA.

(Noise exposure.) A Task Force has assisted in identifying options for strengthening the occupational noise exposure standard, and the Cab Working Group met in October and November 2000, and April 2001, and reached tentative agreement on most of the significant issues related to the noise NPRM. The Cab Working Group held a meeting April 3-5, 2001, to discuss noise exposure standards. Refinement and substantive changes were incorporated into the rule language. A full draft NPRM was circulated to the working group for consideration at the meeting held July 24 and 25, 2002. FRA is revising the draft NPRM based on agreements and comments made in the last meeting. The next meeting is scheduled for November 12 through 14, 2002.

The Cab Working Group has also considered issues related to cab temperature, and is expected to consider additional issues (such as vibration) in the future. No further action is planned at this time. Contact: Jeffrey Horn (202) 493-6283.

Task 97-3—Developing event recorder data survivability standards. This Task was accepted on June 24, 1997. The Event Recorder Working Group is completing preparation of an NPRM. The NPRM went to the Working Group on May 21, 2001, for comments, and FRA has reviewed the comments. A revised draft was provided on March 28, 2002. The next meeting of the Working Group was held on May 30-31, 2002 with a goal of reaching consensus on the NPRM. A revised draft is targeted for completion and submission to the Working Group by the end of September. Contact: Edward Pritchard (202) 493-6247.

Task 97-4 and Task 97-5—Defining Positive Train Control (PTC) functionalities, describing available technologies, evaluating costs and benefits of potential systems, and considering implementation opportunities and challenges, including demonstration and deployment. Task 97-6—Revising various regulations to address the safety implications of processor-based signal and train control technologies, including communications-based operating systems. These three tasks were accepted on September 30, 1997, and assigned to a single Working Group.

(Report to the Administrator.) A Data and Implementation Task Force, formed to address issues such as assessment of costs and benefits and technical readiness, completed a report on the future of PTC systems. The report was accepted as RSAC's Report to the Administrator at the September 8, 1999, meeting.

(Regulatory development.) The Standards Task Force, formed to develop PTC standards assisted in developing draft recommendations for performance-based standards for processor-based signal and train control systems. The NPRM was approved by consensus at the full RSAC meeting held on September 14, 2000. The NPRM was published in the Federal Register on August 10, 2001. A meeting of the Working Group was held December 4-6, 2001, in San Antonio, Texas to formulate recommendations for resolution of issues raised in the public comments. Agreement was reached on most issues raised in the comments. A meeting was held May 14-15, 2002, in Colorado Springs, Colorado at which the working group approved creation of a team to further explore issues related to the “base case” issue. Briefing of the full RSAC on the “base case” issue was completed on May 29, 2002, and consultations continue within the working group. Full Working Group is scheduled to meet October 22-23, 2002. After Working Group approval, will present to the full RSAC for approval.

(Other program development activities.) Task forces on Human Factors and the Axiomatic Safety-Critical Assessment Process (risk assessment) continue to work toward development of a risk assessment toolkit, and the Working Group continues to meet to monitor the implementation of PTC and related projects. Contact: Grady Cothen (202) 493-6302.

Task 97-7—(Completed) Determining damages qualifying an event as a reportable train accident. This Task was accepted on September 30, 1997, and a group was formed to address this task. The working group designed a survey form to collect specific data about damages to railroad equipment. The survey started on August 1 and ended January 31, 2001. A statistical analysis, using the survey data, was done to see if the method could be used to calculate property damages. The report was complete by the last week of April, 2001. A meeting was held May 21-23, 2001 to review the report. The Working Group agreed to terminate action on this task after reviewing the options. The Working Group reviewed a draft close-out report which was approved by the full RSAC on February 13, 2002, terminating this task. Contact: Robert Finkelstein (202) 493-6280.

Task 00-1—Determining the need to amend regulations protecting persons who work on, under, or between rolling equipment and persons applying, removing or inspecting rear end marking devices (Blue Signal Protection). The working group held its first meeting on October 16-18, 2000. Meetings have been held: February 27—March 1, 2001, March 19-21, 2001, May 1-3, 2001, June 19-21, 2001, October 23-25, 2001, and January 28-31, 2002. The Working Group has reached tentative consensus on several issues. FRA is preparing documents and planning a meeting in an effort to assist in moving toward resolution of several remaining issues. Contact: Doug Taylor (202) 493-6255.

Task 01-1—Developing conformity of FRA's regulations for accident/incident reporting (49 CFR part 225) to revised regulations of the Occupational Safety and Health Administration (OSHA), U.S. Department of Labor, and to make appropriate revisions to the FRA Guide for Preparing Accident/Incident Reports (Reporting Guide). This task was accepted April 23, 2001, by the full RSAC and assigned to the Accident/Incident Working Group. A target of September 15, 2001, was set for reporting the recommended changes. At a meeting of the Working Group, held May 21-23, 2001, the task was discussed, and four task forces were set up to review changes and/or modifications. These task forces identified a series of modifications to the Reporting Guide/regulations for consideration. The Working Group met September 11, 2001; meeting was dismissed due to national emergency. A meeting was held November 14-15, 2001 in St. Louis Missouri. A Task Force on Remote Control met on December 11, 2001. The working group met January 23-24, 2002, in Baltimore, Maryland, and March 12-13, 2002, in New Orleans, Louisiana. The Working Group reached consensus at a final meeting held April 24-25, 2002 in Washington, DC. A briefing was held at the full RSAC meeting held on May 29, 2002 and agreement was reached to use a ballot for approval. The full RSAC approved the Working Group recommendations on the draft NPRM on July 19, 2002 by letter ballot. The NPRM and proposed Guide will be published for comment in September 2002. Contact: Robert Finkelstein (202) 493-6280.

Please refer to the notice published in the Federal Register on March 11, 1996 (61 FR 9740) for more information about the RSAC.

Issued in Washington, DC, on August 27, 2002.
George A. Gavalla,
Associate Administrator for Safety.

[FR Doc. 02-22321 Filed 8-30-02; 8:45 am]

BILLING CODE 4910-06-P